DEPARTMENT OF ENERGY

Federal Energy Regulatory Commission

[Project No. 2596-004]

Rochester Gas and Electric Corporation; Notice of Availability of Final Environmental Assessment

January 30, 2002.

In accordance with the National Environmental Policy Act of 1969 and the Federal Energy Regulatory Commission's (Commission's) regulations, the Commission's Division of Hydropower Administration and Compliance, Office of Energy Projects has reviewed an application to surrender the license for the Station 160 Hydroelectric Project. The Station 160 Project is located on the Genesee River in Livingston County, New York.

A Final Environmental Assessment (FEA) has been prepared by staff for the proposed surrender. In the FEA, staff finds that approval of the application, to include certain actions recommended by Commission staff, would not constitute a major federal action significantly affecting the quality of the human environment.

The FEA was written by staff in the Commission's Office of Energy Projects. Copies of the FEA can be viewed at the Commission's Public Reference Room, Room 2A, 888 First Street, NE., Washington, DC 20426, or by calling (202) 208-1371. The FEA may also be viewed on the web at http://www.ferc.gov using the “RIMS” link, select “Docket#” and follow the instructions (call 202-208-2222 for assistance).

For further information, contact B. Peter Yarrington at (202) 219-2939.

Linwood A. Watson, Jr.,
Acting Secretary.

[FR Doc. 02-2731 Filed 2-4-02; 8:45 am]

BILLING CODE 6717-01-P